DEPARTMENT OF JUSTICE

Notice of Lodging of Proposed Consent Decree Under the Clean Air Act

On August 5, 2022, the United States' Department of Justice filed a Complaint and lodged a proposed Consent Decree with the United States District Court for the Southern District of Indiana in United States and the State of Indiana v. Metalworking Lubricants Company, Civil Case No. 22-1560 (S.D. Ind.).

The proposed Consent Decree resolves several Clean Air Act and State law claims against Metalworking Lubricants Company (MLC), for alleged violations of the Clean Air Act and MLC's Federally Enforceable State Operating Permit, including for emitting more than 24 tons per year of organic hazardous air pollutants from MLC's used oil processing facility located in Indianapolis, Indiana. Under the settlement, MLC will install, maintain, operate, and continuously monitor a Carbon Adsorption System to control organic emissions from its oil and wastewater processing tanks. MLC also will install new tanks, oil-water separators, piping and/or ductwork, and make repairs to the existing tanks, oil-water separators, piping and/or ductwork to ensure that all existing, new, and replacement oil processing tanks and oil-water separators are covered by fixed roofs and vented directly through a closed-vent system to significantly reduce emissions. In addition, MLC will pay a civil penalty of $310,000, split equally between the United States and the State of Indiana.

The publication of this notice opens a 30-day period for public comment on the proposed Consent Decree. Comments should be addressed to the Assistant Attorney General, Environment and Natural Resources Division, and should refer to United States and State of Indiana v. Metalworking Lubricants Company, DJ# 90-5-2-1-11985, Civil Case No. 22-1560 (S.D. Ind.). All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and enclose a check or money order for $19.75 cents per page reproduction cost) payable to the United States Treasury to: Consent Decree Library, U.S. DOJ—ENRD, P.O. Box 7611, Washington, DC 20044-7611.

Patricia A. McKenna,
Assistant Section Chief, Environmental Enforcement Section, Environment and Natural Resources Division.

[FR Doc. 2022-17236 Filed 8-10-22; 8:45 am]

BILLING CODE 4410-15-P